DEPARTMENT OF THE INTERIOR

Bureau of Land Management

[LLCON06000 L1610000.DP0000]

Call for Nominations for the Rio Grande Natural Area Commission, Colorado

AGENCY: Bureau of Land Management, Interior.

ACTION: Notice.

SUMMARY: The Secretary of the Interior (Secretary) was directed by the Rio Grande Natural Area Act of 2006 to establish the Rio Grande Natural Area Commission (Commission). The nine-member Commission was formed in February 2011 to advise the Secretary with respect to the Rio Grande Natural Area (Natural Area) and to prepare a management plan relating to non-Federal land in the Natural Area. Since this Commission was formed, one of its members representing the general public resigned due to time conflicts. As a result, the Secretary is soliciting applications to replace the current occupant of that seat.

DATES: Submit nomination packages on or before August 15, 2013.

ADDRESSES: Send completed Council nominations to Tom Heinlein, District Manager, BLM Front Range District Office, 3028 East Main St., Cañon City, CO 81212.

FOR FURTHER INFORMATION CONTACT: Tom Heinlein, District Manager, 3028 East Main St., Cañon City, CO 81212. Phone: 719-269-8554. Email: theinlei@blm.gov. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The Commission is a statutory advisory committee established under Section 4 of the Rio Grande Natural Area Act of 2006 (16 U.S.C. 460rrr-2). The Commission shall be composed of nine members appointed by the Secretary, of whom:

1. One member shall represent the Colorado State Director of the BLM;

2. One member shall be the manager of the Alamosa National Wildlife Refuge, ex officio;

3. Three members shall be appointed based on the recommendation of the Governor of Colorado, among whom:

a. One member shall represent the Colorado Parks and Wildlife division;

b. One member shall represent the Colorado Division of Water Resources; and

c. One member shall represent the Rio Grande Water Conservation District.

4. Four members shall:

a. Represent the general public;

b. Be citizens of the local region in which the Natural Area is established; and

c. Have knowledge and experience in fields of interest relating to the preservation, restoration and use of the Natural Area.

Individuals may nominate themselves or others. The BLM will evaluate nominees based on their education, training, experience and knowledge of the geographical area the Commission serves. Nominees should demonstrate a commitment to collaborative resource decision-making. The following must accompany all nominations:

1. At least one letter of reference from represented interests or organizations;

2. A completed background information nomination form; and

3. Any other information that addresses the nominee's qualifications.

The Obama Administration prohibits individuals who are currently federally-registered lobbyists to serve on all Federal Advisory Committee Act (FACA) and non-FACA boards, committees or councils. Nomination forms may be downloaded from the Rio Grande Natural Area Commission Web site: http://www.blm.gov/co/st/en/fo/slvfo/rio_grande_natural.html.

The Bureau of Land Management's (BLM) San Luis Valley Field Office will review the nomination packages in coordination with the Governor of Colorado before forwarding recommendations to the Secretary, who will make the appointments.

The Commission shall be subject to the FACA, 5 U.S.C. App. 2; and the Federal Land Management Policy Act of 1976, 43 U.S.C. 1701 et seq.

Authority: 43 CFR 1784.4-1.

Helen M. Hankins,
BLM Colorado State Director.

[FR Doc. 2013-16972 Filed 7-15-13; 8:45 am]

BILLING CODE 4310-JB-P